SECURITIES AND EXCHANGE COMMISSION

[SEC File No. 270-523, OMB Control No. 3235-0585]

Submission for OMB Review; Comment Request; Extension: Rule 206(4)-7

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission”) has submitted to the Office of Management and Budget (“OMB”) a request for extension of the previously approved collection of information discussed below.

The title for the collection of information is “Investment Advisers Act rule 206(4)-7, 17 CFR Sec. 275.206(4)-7, Compliance procedures and practices.” This collection of information is found at 17 CFR 275.206(4)-7, and is mandatory. Rule 206(4)-7 under the Investment Advisers Act of 1940 (“Advisers Act”) requires each investment adviser registered with the Commission to (1) adopt and implement written policies and procedures reasonably designed to prevent violations of the Advisers Act and its rules, (2) review those compliance policies and procedures annually, and (3) designate a chief compliance officer who is responsible for administering the compliance policies and procedures. The rule is designed to protect investors by fostering better compliance with the securities laws. The collection of information under rule 206(4)-7 is necessary to help ensure that investment advisers maintain comprehensive internal programs that promote the advisers' compliance with the Advisers Act and its rules. The Commission's examination and oversight staff may review the information collected to assess investment advisers' compliance programs. Responses provided to the Commission pursuant to the rule in the context of the Commission's examination and oversight program are generally kept confidential. An agency may not conduct or sponsor, and a person is not required to respond to, a collection of information unless it displays a currently valid control number.

The respondents to this information collection are investment advisers registered with the Commission. Updated data indicate that there were 14,376 advisers registered with the Commission as of August 2021. Each respondent would produce one response, per year. Commission staff has estimated that compliance with rule 206(4)-7 imposes an annual burden of approximately 90 hours per response. Based on this figure, Commission staff estimates a total annual burden of 1,293,840 hours for this collection of information.

The public may view the background documentation for this information collection at the following website, www.reginfo.gov. Comments should be directed to: (1) Desk Officer for the Securities and Exchange Commission, Office of Information and Regulatory Affairs, Office of Management and Budget, Room 10102, New Executive Office Building, Washington, DC 20503, or by sending an email to: Lindsay.M.Abate@omb.eop.gov; and (2) David Bottom, Director/Chief Information Officer, Securities and Exchange Commission, c/o John R. Pezzullo, 100 F Street NE, Washington, DC 20549 or send an email to: PRA_Mailbox@sec.gov. Written comments and recommendations for the proposed information collection should be sent within 30 days of publication of this notice to www.reginfo.gov/public/do/PRAMain. Find this particular information collection by selecting “Currently under 30-day Review—Open for Public Comments” or by using the search function.

Dated: January 14, 2022.
J. Matthew DeLesDernier,
Assistant Secretary.

[FR Doc. 2022-01061 Filed 1-19-22; 8:45 am]

BILLING CODE 8011-01-P